DEPARTMENT OF COMMERCE

National Oceanic and Atmospheric Administration

Climate Observing Systems Council (COSC) for the Ocean Observing and Monitoring Division

AGENCY: Oceanic and Atmospheric Research, National Oceanic and Atmospheric Administration (NOAA), Department of Commerce.

ACTION: Notice of open meeting.

SUMMARY: Notice is hereby given of an in person meeting of the Climate Observing Systems Council (COSC) for the Ocean Observing and Monitoring Division on November 15, 2019. This meeting will focus on strategic direction for the office and new potential research ideas.

DATES: The meeting will be held on Friday, November 15, 2019, from 9:00 a.m. to 2:00 p.m. EST. These times and the agenda topics described below are subject to change.

ADDRESSES: The meeting will be held at 1315 East-West Hwy., Room 2500, Silver Spring, MD 20910.

FOR FURTHER INFORMATION CONTACT: Emily Smith, Program Manager, Ocean Observing and Monitoring Division, 1315 East-West Highway, Silver Spring, MD 20910; Phone 301-427-2463; Email Emily.a.smith@noaa.gov or visit the website https://cpo.noaa.gov/Meet-the-Divisions/Ocean-Observing-and-Monitoring/COSC.

SUPPLEMENTARY INFORMATION: The meeting will be open to public participation with a 15-minute public comment period on November 15, 2019, from 2:45 p.m. to 3:00 p.m. The COSC expects that public statements presented at its meetings will not be repetitive of previously submitted verbal or written statements. In general, each individual or group making a verbal presentation will be limited to a total time of three (3) minutes. Written comments should be received by the Program Manager by November 8, 2019 to provide sufficient time for Committee review. Written comments received after November 8, 2019 will be distributed to the COSC, but may not be reviewed prior to the meeting date. Please send your name as it appears on driver's license and the organization/company affiliation you represent to Emily Smith. This information must be received by November 8, 2019.

Status: This meeting will be open to public participation. Individuals interested in attending should email Emily Smith at Emily.A.Smith@noaa.gov. Seating at the meeting will be available on a first-come, first-served basis.

Matters to be Considered: The meeting will focus on strategic planning for the office. The latest version of the agenda will be posted at https://cpo.noaa.gov/Meet-the-Divisions/Ocean-Observing-and-Monitoring/COSC.

Special Accomodations: These meetings are physically accessible to people with disabilities. Requests for sign language interpretation or other auxiliary aids should be directed to Emily Smith, at 301-427-2463; email: Emily.a.smith@noaa.gov by November 8, 2019.

Dated: October 4, 2019.
David Holst,
Chief Financial Officer/Administrative Officer, Office of Oceanic and Atmospheric Research, National Oceanic and Atmospheric Administration.

[FR Doc. 2019-22226 Filed 10-9-19; 8:45 am]

BILLING CODE 3510-KD-P